DEPARTMENT OF COMMERCE

Foreign-Trade Zones Board

Foreign-Trade Zone 40—Cleveland, OH; Site Renumbering Notice

Foreign-Trade Zone 40 was approved by the FTZ Board on September 29, 1978 (Board Order 135, 43 FR 46886, 10/11/78), and expanded on June 18, 1992 (Board Order 194, 47 FR 27579, 6/25/82), April 10, 1992 (Board Order 574, 57 FR 13694, 4/17/92), February 10, 1997 (Board Order 870, 62 FR 7750, 2/20/97), June 11, 1999 (Board Order 1040, 64 FR 33242-33243, 6/22/99), April 15, 2002 (Board Order 1224, 67 FR 20087, 4/2/2002), August 21, 2003 (Board Order 1289, 68 FR 52384, 9/3/03), August 21, 2003 (Board Order 1290, 68 FR 52384, 9/3/03), August 21, 2003 (Board Order 1295, 68 FR 52383-52384, 9/3/03), March 11, 2004 (Board Order 1320, 69 FR 13283, 3/22/04), March 24, 2004 (Board Order 1322, 69 FR 17642, 4/5/04), September 10, 2004 (Board Order 1351, 69 FR 56038, 9/17/04), April 15, 2005 (Board Order 1384, 70 FR 21736, 4/27/05), April 15, 2005 (Board Order 1386, 70 FR 21736, 4/27/05), December 9, 2005 (Board Order 1425, 70 FR 76023-76024, 12/22/05), December 21, 2005 (Board Order 1428, 70 FR 77376, 12/30/05), December 21, 2005 (Board Order 1429, 70 FR 77376, 12/30/05) and December 21, 2005 (Board Order 1430, 70 FR 77376, 12/30/05).

FTZ 40 currently consists of 10 “sites” totaling 5,853 acres in the Cleveland area. The current update does not alter the physical boundaries that have previously been approved, but instead involves an administrative renumbering that separates certain non-contiguous sites for record-keeping purposes.

Under this revision, the site list for FTZ 40 will be as follows: Site 1 (94 acres)—Port of Cleveland complex on Lake Erie at the mouth of the Cuyahoga River; Site 2 (172 acres)—Cleveland Business Park, Cleveland; Site 3 (450 acres)—Burke Lakefront Airport, 1501 North Marginal Road, Cleveland; Site 4 (298 acres)—Emerald Valley Business Park, Cochran Road and Beaver Meadow Parkway, Glenwillow; Site 5 (17 acres)—within the Collinwood Industrial Park, South Waterloo (South Marginal) Road and East 152nd Street, Cleveland; Site 6 (174 acres)—Strongsville Industrial Park, Royalton Road (State Route 82), Foltz Industrial Parkway and Lunn Road; Site 7 (13 acres)—East 40th Street between Kelley & Perkins Avenues (3830 Kelley Avenue), Cleveland; Site 8 (15 acres)—within the Frane Properties Industrial Park, 2399 Forman Road, Morgan Township; Site 9 (170 acres)—within the 800-acre Harbour Point Business Park, Baumhart Road, at the intersections of U.S. Route 6 and Ohio Route 2, Vermilion; Site 10 (42 acres)—Broad Oak Business Park located at the intersection of Broadway Avenue and Golden Parkway Avenue (near Interstate 271); Site 11 (29 acres)—Ashtabula Distribution Center, LLC, 1527 Cook Road, Ashtabula Township, Ashtabula; Site 12 (448 acres)—Taylor Woods Commerce Park, bounded by Cleveland Street to the north, Taylor Parkway to the south, Race Road to the east and State Route 57 to the west, Lorain County; Site 13 (118 acres)—within the Solon Business Park, Solon; Site 14 (45 acres)—Cleveland Bulk Terminal, 5500 Whiskey Island Drive; Site 15 (1,200 acres)—Tow Path Valley Business Park located on both the east and west banks of the Cuyahoga River bordered by Jennings Road on the south, Upper Campbell Road on the east, I-490/I-77/Dille Road on the north and West 14th Street to the west; Site 16 (1,727 acres)—Cleveland Hopkins International Airport; Site 17 (175 acres)—the IX Center in Brook Park; Site 18 (42 acres)—Snow Road Industrial Park, 18901 Snow Road, Brook Park; Site 19 (322 acres)—Brook Park Road Industrial Park in Brook Park; Site 20 (70 acres)—within the Progress Drive Business Park located at 11792 Alameda Drive, 12200 Alameda Parkway and 20770 Westwood Drive; Site 21 (212 acres)—Strongsville Commerce Center bounded by Drake Road to the north, Boston Road to the south, Marks Road to the west and Prospect Road to the east; and, Site 22 (20 acres)—within the 100-acre Oakwood Commerce Center, located at 21500 Alexander Road.

For further information, contact Elizabeth Whiteman at Elizabeth.Whiteman@trade.gov or (202) 482-0473.

Dated: August 6, 2010.
Andrew McGilvray,
Executive Secretary.

[FR Doc. 2010-20208 Filed 8-13-10; 8:45 am]

BILLING CODE P